DEPARTMENT OF STATE

[Public Notice 12494]

30-Day Notice of Proposed Information Collection: Recording, Reporting, and Data Collection Requirements—Student and Exchange Visitor Information System (SEVIS)

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to September 16, 2024.

ADDRESSES: Written comments and recommendations for the proposed information collection should be sent within 30 days of publication of this notice to www.reginfo.gov/public/do/PRAMain. Find this particular information collection by selecting “Currently under 30-day Review—Open for Public Comments” or by using the search function.

Direct requests for additional information regarding the collection listed in this notice, including requests for copies of the proposed collection instrument and supporting documents, to Private Sector Exchange Directorate (ECA/EC), U.S Department of State, SA-5, 2200 C Street NW, Washington, DC 20522-0505, ATTN: Federal Register Notice Response, which may be reached at phone: (202) 826-4364, or via email: jexchanges@state.gov.

SUPPLEMENTARY INFORMATION:

• Title of Information Collection: Recording, Reporting, and Data Collection Requirements—Student and Exchange Visitor Information System (SEVIS)

• OMB Control Number: 1405-0147.

• Type of Request: Reinstatement of a previously approved collection.

• Originating Office: Bureau of Educational and Cultural Affairs (ECA/EC).

• Form Number: DS-3036, DS-3037, DS-7000.

• Respondents: U.S. Government and public and private organizations wishing to become Department of State designated sponsors authorized to conduct exchange visitor programs, and Department of State designated sponsors, exchange visitors, and hosts.

• Estimated Number of Respondents: 186,910 (DS-3036—60); (DS-3037—1,450); (DS-7000—185,400).

• Estimated Number of Responses: 2,001,524 (DS-3036—60; DS-3037—2,900; DS-7000—1,998,564 (1,977,588 for Non-SEVIS and 20,976 for SEVIS).

• Average Time Per Response: DS-3036—8 hours; DS-3037—20 minutes; DS-7000—45 minutes.

• Total Estimated Burden Time: 1,988,286 hours (DS-3036—480 hours; DS-3037 943 hours; DS-7000—1,986,863).

• Frequency: On occasion.

• Obligation to Respond: Required to Obtain or Retain a Benefit.

• We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The collection contains information collected by the Bureau of Educational and Cultural Affairs in administering the Exchange Visitor Program (J-Visa) under the provisions of the Mutual Educational and Cultural Exchange Act, as amended (22 U.S.C. 2451, et seq.

Methodology

Information will be collected through mail or electronic submission. Access to Forms DS-3036 and DS-3037 is found in the Student and Exchange Visitor Information System (SEVIS). Form DS-7000 is an internal spreadsheet that summarizes the burden resulting from requirements of the Exchange Visitor Program rules in 22 CFR part 62.

Rebecca Pasini,
Deputy Assistant Secretary, Bureau of Educational and Cultural Affairs.

[FR Doc. 2024-18352 Filed 8-15-24; 8:45 am]

BILLING CODE 4710-05-P